ENVIRONMENTAL PROTECTION AGENCY

40 CFR Part 50

[EPA-HQ-OAR-2005-0159; FRL-8752-2]

RIN 2060-AP28

The Treatment of Data Influenced by Exceptional Events (Exceptional Event Rule): Revised Exceptional Event Data Flagging Submittal and Documentation Schedule To Support Initial Area Designations for the 2008 Ozone NAAQS

AGENCY: Environmental Protection Agency (EPA).

ACTION: Withdrawal of direct final rule.

SUMMARY: The EPA issued “The Treatment of Data Influenced by Exceptional Events (Exceptional Event Rule): Revised Exceptional Event Data Flagging Submittal and Documentation Schedule for Monitoring Data Used in Designations for the 2008 Ozone NAAQS” as a direct final rule on October 6, 2008, 73 FR 58042. Because EPA received an adverse comment, we are withdrawing the direct final rule amendments to “The Treatment of Data Influenced by Exceptional Events (Exceptional Event Rule): Revised Exceptional Event Data Flagging Submittal and Documentation Schedule to Support Initial Area Designations for the 2008 Ozone NAAQS” published in the Federal Register on October 6, 2008 (73 FR 58042).

DATES: As of December 16, 2008, EPA withdraws the direct final rule amendments published on October 6, 2008 (73 FR 58042).

ADDRESSES: EPA has established a docket for this action under Docket ID No. EPA-HQ-OAR-2005-0159. All documents in the docket are listed on the http://www.regulations.gov Web Site. Although listed in the index, some information is not publicly available, e.g., confidential business information or other information whose disclosure is restricted by statute. Certain other material, such as copyrighted material, is not placed on the Internet and will be publicly available only in hard copy form. Publicly available docket materials are available either electronically through http://www.regulations.gov or in hard copy at Air Docket, EPA/DC, EPA West, Room 3334, 1301 Constitution Ave., NW., Washington, DC. The Public Reading Room is open from 8:30 a.m. to 4:30 p.m., Monday through Friday, excluding legal holidays. The telephone number for the Public Reading Room is (202) 566-1744.

FOR FURTHER INFORMATION CONTACT: Thomas E. Link, Air Quality Planning Division, Office of Air Quality Planning and Standards, Mail Code C539-04, Environmental Protection Agency, Research Triangle Park, North Carolina 27711; telephone number: 919-541-5456; fax number: 919-541-0824; e-mail address: link.tom@epa.gov.

SUPPLEMENTARY INFORMATION:

I. General Information

A. Does This Action Apply to Me?

This action affects states and local air quality agencies and may also affect Tribal air quality agencies that have implemented air quality monitoring networks or have authority to implement air quality programs.

II. Background Information

The EPA issued “The Treatment of Data Influenced by Exceptional Events (Exceptional Event Rule): Revised Exceptional Event Data Flagging Submittal and Documentation Schedule for Monitoring Data Used in Designations for the 2008 Ozone NAAQS” as a direct final rule on October 6, 2008, 73 FR 58042. The direct final rule revises the schedule for the flagging and submission of documentation of data impacted by exceptional events that may be used for designations under the 2008 ozone National Ambient Air Quality Standards (NAAQS). For a detailed description of the ozone NAAQS and the Exceptional Events Rule, please see the rulemaking actions which are available at EPA's Web sites at http://www.epa.gov/groundlevelozone/actions.html and http://www.epa.gov/EPA-AIR/2008/October/Day-06/a23520.htm and also in the Federal Register at 73 FR 16436 and 73 FR 58042.

We stated in the direct final rule amendments that if we received adverse comment by November 20, 2008, we would publish a timely notice of withdrawal in the Federal Register. We received an adverse comment on the direct final rule amendments on November 20, 2008. Because EPA received adverse comment, we are withdrawing the direct final rule amendments to “The Treatment of Data Influenced by Exceptional Events (Exceptional Event Rule): Revised Exceptional Event Data Flagging Submittal and Documentation Schedule to Support Initial Area Designations for the 2008 Ozone NAAQS” published in the Federal Register on October 6, 2008 (73 FR 58042), as of December 16, 2008. EPA will address adverse comments received in a subsequent final action based on the parallel proposal also published on October 6, 2008. As stated in the parallel proposal, we will not institute a second comment period on this action.

List of Subjects in 40 CFR Part 50

Environmental protection, Air pollution control, Nitrogen dioxide, Ozone, Particulate matter, Reporting and recordkeeping requirements, Sulfur dioxide, Volatile organic compounds.

Dated: December 10, 2008.
Robert J. Meyers,
Principal Deputy Assistant Administrator.

PART 50—[AMENDED]

Accordingly, the amendments to the rule published in the Federal Register on October 6, 2008 (73 FR 58042) on pages 58042-58047 are withdrawn as of December 16, 2008.

[FR Doc. E8-29747 Filed 12-15-08; 8:45 am]

BILLING CODE 6560-50-P